DEPARTMENT OF DEFENSE

Department of the Navy

Meeting of the Board of Visitors of Marine Corps University

AGENCY: Department of the Navy, DOD.

ACTION: Notice of open meeting.

SUMMARY: The Board of Visitors of the Marine Corps University (BOV MCU) will meet to review, develop and provide recommendations on all aspects of the academic and administrative policies of the University; examine all aspects of professional military education operations; and provide such oversight and advice as is necessary to facilitate high educational standards and cost effective operations. The Board will be meeting the new President, MCU, and reviewing the fiscal plan for next year, the University's Institutional Research program, the status of the School of Strategic Warfighting's pursuit of degree granting authority, and reviewing the University's curriculum mapping initiative. All sessions of the meeting will be open to the public.

DATES: The meeting will be held on Monday, October 28, 2002, from 8 a.m. to 4 p.m. and on Tuesday, October 29, 2002, from 8 a.m. to 12 p.m.

ADDRESSES: The meeting will be held at the Marine Corps University General Alfred M. Gray Research Center, Rooms 164-166, 2040 Broadway Street, Quantico, VA 22134.

FOR FURTHER INFORMATION CONTACT: Dr. Jerre Wilson, Executive Secretary, Marine Corps University Board of Visitors, 2076 South Street, Quantico, VA 22134, telephone number (703) 784-6917.

Dated: September 18, 2002.
R.E. Vincent II,
Lieutenant Commander, Judge Advocate General's Corps, U.S. Navy, Federal Register Liaison Officer.

[FR Doc. 02-24582 Filed 9-26-02; 8:45 am]

BILLING CODE 3810-FF-P